DEPARTMENT OF COMMERCE

National Oceanic and Atmospheric Administration

RIN 0648-XO03

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Scallop Committee in April, 2009 to consider actions affecting New England fisheries in the exclusive economic zone (EEZ). Recommendations from this group will be brought to the full Council for formal consideration and action, if appropriate.

DATES: This meeting will be held on Thursday, April 2, 2009 at 9 a.m.

ADDRESSES: Meeting address: This meeting will be held at the Hotel Providence, 311 Westminister Street, Providence, RI 02903; telephone: (401) 861-8000; fax: (401) 861-8002.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The Committee will discuss several outstanding issues related to development of Amendment 15 measures, specifically, refinement of measures to comply with new annual catch limit (ACL) requirements including accountability measures (AMs) for the scallop fishery (for both the scallop resource and incidental catch of yellowtail flounder). The Committee will also discuss other outstanding issues related to measures under development for leasing DAS and access area trips, permit and/or quota splitting for general category IFQ permit holders and other issues. The committee will discuss potential issues to be considered in Framework 21. The Council is scheduled to initiate Framework 21 at the April Council meeting. The primary purpose of Framework 21 is to set management measures for fishing year 2010. The committee may discuss other topics at their discretion.

Special Accommodations

This meeting is physically accessible to people with disabilities. Requests for sign language interpretation or other auxiliary aids should be directed to Paul J. Howard, Executive Director, at 978-465-0492, at least 5 days prior to the meeting date.

Authority: 16 U.S.C. 1801 et seq.

Dated: March 10, 2009.
Tracey L. Thompson,
Acting Director, Office of Sustainable Fisheries, National Marine Fisheries Service.

[FR Doc. E9-5451 Filed 3-12-09; 8:45 am]

BILLING CODE 3510-22-S